DEPARTMENT OF HEALTH AND HUMAN SERVICES

Centers for Disease Control and Prevention

Disease, Disability, and Injury Prevention and Control Special Emphasis Panel (SEP): Initial Review

The meeting announced below concerns Pilot Program of Mailed Fecal Immunochemical Tests to Increase Colorectal Cancer Screening Rates, Special Interest Projects (SIP) 14-012; Understanding the Barriers to Colorectal Cancer Screening among South Central Asian Immigrants in the United States, SIP14-013; and Development and Evaluation of Active Surveillance Decision aid for Men with Low-grade, Local-stage Prostate Cancer, SIP14-014, Panel D, initial review.

In accordance with Section 10(a)(2) of the Federal Advisory Committee Act (Pub. L. 92-463), the Centers for Disease Control and Prevention (CDC) announces the aforementioned meeting:

Times and Dates:

9:30 a.m.-6:00 p.m., June 19, 2014 (Closed).

9:30 a.m.-6:00 p.m., June 20, 2014 (Closed).

Place: Teleconference.

Status: The meeting will be closed to the public in accordance with provisions set forth in Section 552b(c)(4) and (6), Title 5 U.S.C., and the Determination of the Director, Management Analysis and Services Office, CDC, pursuant to Public Law 92-463.

Matters For Discussion: The meeting will include the initial review, discussion, and evaluation of applications received in response to “Pilot Program of Mailed Fecal Immunochemical Tests to Increase Colorectal Cancer Screening Rates, SIP14-012; Understanding the Barriers to Colorectal Cancer Screening among South Central Asian Immigrants in the United States, SIP 14-013; and Development and Evaluation of Active Surveillance Decision aid for Men with Low-grade, Local-stage Prostate Cancer, SIP14-014, Panel D, initial review.”

Contact Person For More Information: Gwendolyn H. Cattledge, Ph.D., M.S.E.H., F.A.C.E., Deputy Associate Director for Science, National Center for Injury Prevention and Control, CDC, 4770 Buford Highway NE., Mailstop F-63, Atlanta, Georgia 30341, Telephone: (770) 488-4655, GXC8@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-13227 Filed 6-5-14; 8:45 am]

BILLING CODE 4163-18-P